DEPARTMENT OF ENERGY

Federal Energy Regulatory Commission

[Docket No. ER00-865-000, et al.]

1. Consolidated Edison Energy, Inc., et al.; Electric Rate and Corporate Regulation Filings

January 10, 2000. Take notice that the following filings have been made with the Commission:

Consolidated Edison Energy, Inc., Northeast Utilities Service Company

[Docket No. ER00-865-000]

Take notice that on January 5, 2000, Consolidated Edison Energy, Inc. (Con Edison Energy) and Northeast Utilities Service Company (NUSCO) withdrew a request for confidential treatment contained in a December 21, 1999, filing in the above-captioned docket in light of two orders issued on December 29, 1999. Con Edison Energy and NUSCO also provided additional unredacted copies of the agreements included in their earlier filing.

Con Edison Energy and NUSCO state that copies of this filing have been mailed to the Massachusetts Commission and to persons designated for service in this proceeding.

Comment date: January 25, 2000, in accordance with Standard Paragraph E at the end of this notice.

2. Select Energy, Inc., Northeast Utilities Service Company

[Docket No. ER00-952-000]

Take notice that on January 5, 2000, Select Energy, Inc. (Select) and Northeast Utilities Service Company (NUSCO) withdrew a request for confidential treatment contained in a December 29, 1999, filing in the above-captioned docket in light of two orders issued on December 29, 1999. Select and NUSCO also provided additional unredacted copies of the agreements included in their earlier filing.

Select and NUSCO state that copies of this filing have been mailed to the Massachusetts and Connecticut Commissions and to persons designated for service in this proceeding.

Comment date: January 25, 2000, in accordance with Standard Paragraph E at the end of this notice.

3. PECO Energy Company

[Docket No. ER00-1004-000]

Take notice that on January 5, 2000, PECO Energy Company (PECO), tendered for filing under Section 205 of the Federal Power Act, 16 U.S.C. S 792 et seq., an Agreement dated December 23, 1999 with Commonwealth Energy Company (d/b/a/ electric AMERICA) (CEC) under PECO's FERC Electric Tariff Original Volume No. 1 (Tariff).

PECO requests an effective date of January 1, 2000, for the Agreement.

PECO states that copies of this filing have been supplied to CEC and to the Pennsylvania Public Utility Commission.

Comment date: January 25, 2000, in accordance with Standard Paragraph E at the end of this notice.

4. Allegheny Energy Service Corporation, on behalf of Monongahela Power Company, The Potomac Edison Company and West Penn Power Company (Allegheny Power)

[Docket No. ER00-1005-000]

Take notice that on January 5, 2000, Allegheny Energy Service Corporation on behalf of Monongahela Power Company, The Potomac Edison Company and West Penn Power Company (Allegheny Power), tendered for filing Supplement No. 46 to add one (1) new Customer to the Market Rate Tariff under which Allegheny Power offers generation services.

Allegheny Power requests a waiver of notice requirements to make service available as of January 4, 2000 to NRG Power Marketing Inc.

Copies of the filing have been provided to the Public Utilities Commission of Ohio, the Pennsylvania Public Utility Commission, the Maryland Public Service Commission, the Virginia State Corporation Commission, the West Virginia Public Service Commission, and all parties of record.

Comment date: January 25, 2000, in accordance with Standard Paragraph E at the end of this notice.

5. California Independent System Operator Corporation

[Docket No. ER00-1007-000]

Take notice that on January 5, 2000, the California Independent System Operator Corporation (ISO), tendered for filing a revision to Appendix A of the Responsible Participating Transmission Owner Agreement between the ISO and Pacific Gas and Electric Company. The ISO states that the revision modifies the Appendix to add Service Agreements 42 and 43 to Bay Area Rapid Transit's list of contracts; announces in several footnotes in Appendix A the new obligations of two Scheduling Coordinators, the Western Area Power Administration and the California Power Exchange, and the authority for appointing those Scheduling Coordinators; and delete Lassen Municipal Utility District, Minnesota Methane, Power Exchange, and Sierra Pacific from Appendix A.

The ISO requests that the revision be made effective as of November 17, 1999.

The ISO states that this filing has been served on all parties listed on the Restricted Service List in Docket Nos. ER98-1057-000, et al.

Comment date: January 25, 2000, in accordance with Standard Paragraph E at the end of this notice.

6. Ameren Services Company

[Docket No. ER00-1008-000]

Take notice that on January 5, 2000, Ameren Services Company (ASC), the transmission provider, tendered for filing a Service Agreement for Long-Term Firm Point-to-Point Transmission Service between ASC and Reliant Energy Services, Inc., (RES). ASC asserts that the purpose of the Agreement is to permit ASC to provide transmission service to RES pursuant to Ameren's Open Access Transmission Tariff filed in Docket No. ER96-677-004.

Comment date: January 25, 2000, in accordance with Standard Paragraph E at the end of this notice.

7. PECO Energy Company

[Docket No. ER00-1009-000]

Take notice that on January 5, 2000, PECO Energy Company (PECO), tendered for filing under Section 205 of the Federal Power Act, 16 U.S.C. S 792 et seq., an Agreement dated December 23, 1999 with NewEnergy, Inc. (NEV) under PECO's FERC Electric Tariff Original Volume No. 1 (Tariff).

PECO requests an effective date of January 1, 2000, for the Agreement.

PECO states that copies of this filing have been supplied to NEV and to the Pennsylvania Public Utility Commission.

Comment date: January 25, 2000, in accordance with Standard Paragraph E at the end of this notice.

8. PECO Energy Company

[Docket No. ER00-1010-000]

Take notice that on January 5, 2000, PECO Energy Company (PECO), tendered for filing under Section 205 of the Federal Power Act, 16 U.S.C. S 792 et seq., an Agreement dated December 24, 1999 with PEPCO Services, Inc. (PSI) under PECO's FERC Electric Tariff Original Volume No. 1 (Tariff).

PECO requests an effective date of January 1, 2000, for the Agreement.

PECO states that copies of this filing have been supplied to PSI and to the Pennsylvania Public Utility Commission.

Comment date: January 25, 2000, in accordance with Standard Paragraph E at the end of this notice.

9. Cinergy Services, Inc.

[Docket No. ER00-1011-000]

Take notice that on January 4, 2000, Cinergy Services, Inc. on behalf of its Operating Company affiliates, The Cincinnati Gas & Electric Company and PSI Energy, Inc. (COC), tendered for filing an executed service agreement between COC and Duke Energy Trading and Marketing, L.L.C. (DETM) replacing the unexecuted service agreement filed on November 28, 1997 under Docket No. ER98-847-000 per COC FERC Electric Cost-Based Power Sales Tariff, Original Volume No. 6-CB.

Cinergy is requesting an effective date of October 29, 1997 and the same Rate Designation as per the original filing.

Comment date: January 24, 2000, in accordance with Standard Paragraph E at the end of this notice.

10. West Texas Utilities Company

[Docket No. ER00-1012-000]

Take notice that on January 5, 2000, West Texas Utilities Company (WTU), tendered for filing a letter agreement, dated December 3, 1999, between WTU and Southwest Texas Electric Cooperative, Inc. (Southwest Texas) as a supplement to Southwest Texas' service agreement with WTU under WTU's Wholesale Power Choice Tariff. The supplement is being filed to address a billing error.

WTU requests an effective date of April 1, 1994 and, accordingly, seeks waiver of the Commission's notice requirements.

Copies of the filing have been served on Southwest Texas and the Public Utility Commission of Texas.

Comment date: January 25, 2000, in accordance with Standard Paragraph E at the end of this notice.

11. PP&L, Inc.

[Docket No. ER00-1014-000]

Take notice that on January 5, 2000, PP&L, Inc. (PP&L), tendered for filing with the Federal Energy Regulatory Commission an executed Letter Agreement between PP&L and UGI Utilities, Inc. (UGI), regarding the collection, and allocation among PP&L and UGI, of transmission revenue in the PP&L Group Zone by PJM Interconnection, L.L.C. (PJM) under the PJM Open Access Transmission Tariff (PJM Tariff).

PP&L requests an effective date of August 1, 1999 for the Letter Agreement. PP&L states that a copy of this filing has been provided to UGI, PJM and the Pennsylvania Public Utility Commission.

Comment date: January 25, 2000, in accordance with Standard Paragraph E at the end of this notice.

12. PP&L, Inc.

[Docket No. ER00-1015-000]

Take notice that on January 5, 2000, PP&L, Inc. (PP&L), tendered for filing a Notice of Assignment pursuant to which Allegheny Energy Supply Company, LLC (Allegheny Energy) will replace West Penn Power Company, d/b/a Allegheny Power, under Service Agreement No. 21 to PP&L's Market-Based Rate Tariff, FERC Electric Tariff First Revised Volume No. 5.

PP&L requests an effective date of the assignment of December 10, 1999.

Comment date: January 25, 2000, in accordance with Standard Paragraph E at the end of this notice.

13. PG&E Power Services Company

[Docket No. ER00-1016-000]

Take notice that on January 5, 2000, PG&E Power Services Company tendered for filing a Notice of Withdrawal of quarterly reports filed with the Commission in Docket Nos. ER94-1394, ER99-976 and ER00-745.

Comment date: January 25, 2000, in accordance with Standard Paragraph E at the end of this notice.

14. Carolina Power & Light Company

[Docket No. ER00-1017-000]

Take notice that on January 6, 2000, Carolina Power & Light Company (CP&L), tendered for filing an executed Service Agreement with Western Resources, Inc. under the provisions of CP&L's Market-Based Rates Tariff, FERC Electric Tariff No. 4.

This Service Agreement supersedes the un-executed Agreement originally filed in Docket No. ER98-3385-000 and approved effective May 18, 1998.

Copies of the filing were served upon the North Carolina Utilities Commission and the South Carolina Public Service Commission.

Comment date: January 25, 2000, in accordance with Standard Paragraph E at the end of this notice.

15. Allegheny Energy Service Corporation, on behalf of Allegheny Energy Supply Company, LLC

[Docket No. ER00-1018-000]

Take notice that on January 6, 2000, Allegheny Energy Service Corporation on behalf of Allegheny Energy Supply Company, LLC (Allegheny Energy Supply), tendered for filing Supplement No. 16 to add one (1) new Customer to the Market Rate Tariff under which Allegheny Energy Supply offers generation services.

Allegheny Energy Supply requests a waiver of notice requirements to make service available as of December 8, 1999 to Reliant Energy Services, Inc.

Copies of the filing have been provided to the Public Utilities Commission of Ohio, the Pennsylvania Public Utility Commission, the Maryland Public Service Commission, the Virginia State Corporation Commission, the West Virginia Public Service Commission, and all parties of record.

Comment date: January 26, 2000, in accordance with Standard Paragraph E at the end of this notice.

16. Alliant Energy Corporate Services, Inc.

[Docket No. ER00-1020-000]

Take notice that on January 6, 2000, Alliant Energy Corporate Services, Inc. (Alliant Energy) on behalf of Interstate Power Company (IPC) and Wisconsin Power & Light (WPL), tendered for filing a Negotiated Capacity Transaction (Agreement) between WPL and IPC for the period January 1, 2000 through December 31, 2000. The Agreement was negotiated to provide service under the Alliant Energy System Coordination and Operating Agreement among IES Utilities Inc., Interstate Power Company, Wisconsin Power & Light Company and Alliant Energy.

Comment date: January 26, 2000, in accordance with Standard Paragraph E at the end of this notice.

17. Alliant Energy Corporate Services, Inc.

[Docket No. ER00-1021-000]

Take notice that on January 6, 2000, Alliant Energy Corporate Services, Inc. (Alliant Energy) on behalf of Interstate Power Company (IPC) and Wisconsin Power & Light (WPL), tendered for filing a Negotiated Capacity Transaction (Agreement) between WPL and IPC for the period June 1, 2000 through August 31, 2000. The Agreement was negotiated to provide service under the Alliant Energy System Coordination and Operating Agreement among IES Utilities Inc., Interstate Power Company, Wisconsin Power & Light Company and Alliant Energy.

Comment date: January 26, 2000, in accordance with Standard Paragraph E at the end of this notice.

18. Alliant Energy Corporate Services, Inc.

[Docket No. ER00-1022-000]

Take notice that on January 6, 2000, Alliant Energy Corporate Services, Inc. (Alliant Energy) on behalf of Interstate Power Company (IPC) and Wisconsin Power & Light (WPL), tendered for filing a Negotiated Capacity Transaction (Agreement) between IPC and WPL for the period January 1, 2000 through December 31, 2000. The Agreement was negotiated to provide service under the Alliant IPC's Power Sales Tariff PS-1.

Comment date: January 26, 2000, in accordance with Standard Paragraph E at the end of this notice.

19. Alliant Energy Corporate Services, Inc.

[Docket No. ER00-1023-000]

Take notice that on January 6, 2000, Alliant Energy Corporate Services, Inc. (Alliant Energy) on behalf of Interstate Power Company (IPC) and Wisconsin Power & Light (WPL), tendered for filing a Unit Participation Capacity Transaction (Agreement) between WPL and IPC for the period June 1, 2000 through August 31, 2000. The Agreement was negotiated to provide service under the Alliant Energy System Coordination and Operating Agreement among IES Utilities Inc., Interstate Power Company, Wisconsin Power & Light Company and Alliant Energy.

Comment date: January 26, 2000, in accordance with Standard Paragraph E at the end of this notice.

20. New Century Services, Inc.

[Docket No. ER00-1024-000

Take notice that on January 6, 2000, New Century Services, Inc. (NCS), on behalf of Public Service Company of Colorado (Public Service), tendered for filing the Master Commodity Purchase and Sale Agreement between Public Service and Reliant Energy Services, Inc., which is an umbrella service agreement under Public Service's Rate Schedule for Market-Based Power Sales (Public Service FERC Electric Tariff, Original Volume No. 6).

NCS requests that this agreement become effective on December 6, 1999.

Comment date: January 26, 2000, in accordance with Standard Paragraph E at the end of this notice.

21. Kansas City Power & Light Company

[Docket No. ER00-1025-000]

Take notice that on January 6, 2000, Kansas City Power & Light Company (KCPL), tendered for filing a Service Agreement dated December 14, 1999, between KCPL and Madison Gas & Electric. This Agreement provides for Market Based Sales Service.

KCPL proposes an effective date of December 14, 1999, and requests waiver of the Commission's notice requirement.

Comment date: January 26, 2000, in accordance with Standard Paragraph E at the end of this notice.

22. Indianapolis Power & Light Company

[Docket No. ER00-1026-000]

Take notice that on January 6, 2000, Indianapolis Power & Light Company (IPL), tendered for filing, its Order Nos. 888 and 889 compliance filing and an application for market-based rate authority.

Copies of this filing were served on the Indiana Utility Regulatory Commission and others as provided on the official service list.

Comment date: January 26, 2000, in accordance with Standard Paragraph E at the end of this notice.

Standard Paragraph

E. Any person desiring to be heard or to protest such filing should file a motion to intervene or protest with the Federal Energy Regulatory Commission, 888 First Street, NE, Washington, DC 20426, in accordance with rules 211 and 214 of the Commission's Rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-1007 Filed 1-14-00; 8:45 am]

BILLING CODE 6717-01-P